DEPARTMENT OF THE INTERIOR

Bureau of Land Management

[12X LLORE00000 L63500000.DP0000 LXSS021H0000.HAG12-0291]

Notice of Availability of the Draft West Eugene Wetlands Resource Management Plan/Environmental Impact Statement, Oregon

AGENCY: Bureau of Land Management, Interior.

ACTION: Notice of Availability.

SUMMARY: In accordance with the National Environmental Policy Act of 1969, as amended, and the Federal Land Policy and Management Act of 1976, as amended, the Bureau of Land Management (BLM) has prepared a Draft Resource Management Plan (RMP) and Draft Environmental Impact Statement (EIS) for the West Eugene Wetlands and by this notice is announcing the opening of the comment period.

DATES: To ensure that comments will be considered, the BLM must receive written comments on the Draft RMP/Draft EIS within 90 days following the date the Environmental Protection Agency publishes this notice of the Draft RMP/Draft EIS in the Federal Register. The BLM will announce future meetings or hearings and any other public participation activities at least 15 days in advance through public notices, media releases, and/or mailings.

ADDRESSES: You may submit comments related to the West Eugene Wetlands Draft RMP/Draft EIS by any of the following methods:

• Web site: http://www.blm.gov/or/districts/eugene/index.php.

• Email: BLM_OR_EU_Mail@blm.gov.

• Fax: 541-683-6981.

• Mail: P.O. Box 10226, Eugene, Oregon 97440-2226.

Copies of the West Eugene Wetlands Draft RMP/Draft EIS are available at the Eugene District Office, 3106 Pierce Parkway, Springfield, Oregon 97477.

FOR FURTHER INFORMATION CONTACT: Richard Hardt, Planning and Environmental Coordinator, telephone 541-683-6690; address P.O. Box 10226, Eugene, Oregon 97440-2226; email BLM_OR_EU_Mail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In the West Eugene Wetlands Draft RMP/Draft EIS, the BLM analyzes the environmental consequences of seven alternatives for managing approximately 1,340 acres of BLM-administered lands in and near the city of Eugene, in Lane County, Oregon. The planning area does not currently have an RMP. The planning area is made up of acquired lands and survey hiatuses. This RMP is being developed separately from the Eugene District RMP because the planning area is geographically and ecologically distinct from the rest of the BLM-administered lands in the Eugene District and many of the resources and issues in the planning area are unrelated to those addressed in the Eugene District RMP. The approved West Eugene Wetlands RMP will apply only to the BLM-administered lands in the West Eugene Wetlands.

The purpose of the action is to manage the planning area to contribute to the recovery of species listed under the Endangered Species Act, while providing other benefits. There are specific considerations in the planning area that lead the BLM to focus management on threatened and endangered species, including the Fender's blue butterfly and the plants Bradshaw's lomatium, Willamette daisy, Kincaid's lupine, and golden paintbrush: The scarcity of the listed species and their habitat, the importance of the planning area to the recovery of the listed species, and the purposes for which the BLM acquired the lands in the planning area. Therefore, the purpose and need for this RMP is more focused than the broad mandate of multiple use.

The West Eugene Wetlands Draft RMP/Draft EIS analyzes in detail six action alternatives and the No Action alternative. The No Action alternative would continue the current management approach into the future with no change in the management actions and level of management intensity in the planning area. Because the current management approach was not developed in an RMP, there are no land use allocations, management objectives, or management direction established for the planning area.

The design of the action alternatives varies primarily in the amount and location of lands within the planning area that would be allocated to the restoration of threatened and endangered species habitat. The action alternatives also vary in the management emphasis for lands which are not managed for habitat restoration. Additionally, the action alternatives vary in whether herbicides would be included as a management tool. Under the action alternatives, most or all of the planning area would be allocated to two land use allocations:

Prairie Restoration Area, which would have a management objective to restore and maintain habitat for prairie-related species; and Natural Maintenance Area, which would have a management objective to maintain existing resources and provide opportunities for a variety of goods and services.

Alternative 1 would allocate most of the planning area to the Prairie Restoration Area. Alternatives 2A and 2B would allocate to the Prairie Restoration Area all designated critical habitat. Alternative 2B would emphasize providing commodities and services to the extent compatible with threatened and endangered species management, and would make approximately two-thirds of the planning area open to saleable mineral development.

Alternatives 3A, 3B, and 3C would allocate to the Prairie Restoration Area all good quality habitat that is currently occupied by threatened or endangered species. Alternative 3C would enhance recreation opportunities to the extent compatible with threatened and endangered species management.

Alternatives 1, 2A, 2B, and 3A would include herbicides among the management tools. The only nomination for an Area of Critical Environmental Concern (ACEC) received in this planning effort was continued designation of the currently designated Long Tom ACEC. Under Alternatives 1, 3A, 3B, and 3C, the site of the currently designated Long Tom ACEC would be included within the Prairie Restoration Area and would not need special management to protect the relevant and important values of the ACEC. Therefore, under these alternatives, the ACEC designation for this site would be removed. Under the No Action alternative and Alternatives 2A and 2B, the Long Tom site would continue to be designated as an ACEC.

Under all action alternatives, motorized vehicle use would be limited to designated roads throughout the planning area. This planning effort will include implementation decisions related to travel management networks, including a travel management plan identifying the specific roads and trails that will be available for public use and the limitations on use of roads and trails.

Alternative 2A is the BLM preferred alternative.

The land-use planning process was initiated on June 8, 2011, through a Notice of Intent published in the Federal Register (76 FR 33341), notifying the public of a formal scoping period and soliciting public participation. Cooperating agencies in the preparation of this land use plan are the United States Army Corps of Engineers, the City of Eugene Parks and Open Space Division, and the Confederated Tribes of Grand Ronde. Following the close of the public review and comment period, any substantive public comments will be used to revise the Draft RMP/Draft EIS in preparation for its release to the public as the Proposed RMP and Final EIS. The BLM will respond to each substantive comment received during the public review and comment period by making appropriate revisions to the document, or explaining why the comment did not warrant a change. A notice of the availability of the Proposed RMP and Final EIS will be published in the Federal Register.

Please note that public comments and information submitted—including names, street addresses, and email addresses of persons who submit comments—will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Virginia Grilley,
Eugene District Manager.

[FR Doc. 2012-25624 Filed 10-18-12; 8:45 am]

BILLING CODE 4310-33-P